DEPARTMENT OF COMMERCE

National Oceanic and Atmospheric Administration

Request for Applications for Vacant Seats on the Flower Garden Banks National Marine Sanctuary Advisory Council

AGENCY: Office of National Marine Sanctuaries (ONMS), National Ocean Service (NOS), National Oceanic and Atmospheric Administration (NOAA), Department of Commerce (DOC).

ACTION: Notice and request for applications.

SUMMARY: The ONMS is seeking applications for the following six vacant seats on the Flower Garden Banks National Marine Sanctuary Advisory Council: recreational diving, oil and gas operations, recreational fishing, commercial fishing, research and education. Applicants are chosen based upon their particular expertise and experience in relation to the seat for which they are applying; community and professional affiliations; philosophy regarding the protection and management of marine resources; and possibly the length of residence in the area affected by the sanctuary. Applicants who are chosen as members should expect to serve three-year terms, pursuant to the council's Charter.

DATES: Applications are due by December 9, 2011.

ADDRESSES: Application kits may be obtained from Jennifer Morgan, NOAA-Flower Garden Banks National Marine Sanctuary, 4700 Avenue U, Bldg. 216, Galveston, TX 77551 or downloaded from the sanctuary Web site http://flowergarden.noaa.gov. Completed applications should be sent to the same address.

FOR FURTHER INFORMATION CONTACT: Jennifer Morgan, NOAA-Flower Garden Banks National Marine Sanctuary, 4700 Avenue U, Bldg. 216, Galveston, TX 77551, 409-621-5151 ext. 103, Jennifer.Morgan@noaa.gov.

SUPPLEMENTARY INFORMATION: Located in the northwestern Gulf of Mexico, the Flower Garden Banks National Marine Sanctuary includes three separate areas, known as East Flower Garden, West Flower Garden, and Stetson Banks. The Sanctuary was designated on January 17, 1992. Stetson Bank was added to the Sanctuary in 1996. The Sanctuary Advisory Council will consist of no more than 21 members; 16 nongovernmental voting members and 5 governmental non-voting members. The Council may serve as a forum for consultation and deliberation among its members and as a source of advice to the Sanctuary manager regarding the management of the Flower Garden Banks National Marine Sanctuary. Authority: 16 U.S.C. Sections 1431, et seq.

(Federal Domestic Assistance Catalog Number 11.429 Marine Sanctuary Program)

Dated: October 4, 2011.
Daniel J. Basta,
Director, Office of National Marine Sanctuaries, National Ocean Service, National Oceanic and Atmospheric Administration.

[FR Doc. 2011-26685 Filed 10-14-11; 8:45 am]

BILLING CODE 3510-NK-M